DEPARTMENT OF ENERGY

Federal Energy Regulatory Commission

Combined Notice of Filings #1

Take notice that the Commission received the following exempt wholesale generator filings:

Docket Numbers: EG22-16-000.

Applicants: Dunns Bridge Solar Center, LLC.

Description: Notice of Self-Certification of Exempt Wholesale Generator Status of Dunns Bridge Solar Center, LLC.

Filed Date: 10/22/21.

Accession Number: 20211022-5209.

Comment Date: 5 p.m. ET 11/12/21.

Docket Numbers: EG22-17-000.

Applicants: Jackson Generation, LLC.

Description: Notice of Self-Certification of Exempt Wholesale Generator Status of Jackson Generation, LLC.

Filed Date: 11/1/21.

Accession Number: 20211101-5116.

Comment Date: 5 p.m. ET 11/22/21.

Docket Numbers: EG22-18-000.

Applicants: MPH AL Pierce, LLC.

Description: Notice of Self-Certification of Exempt Wholesale Generator status of MPH Al Pierce, LLC.

Filed Date: 10/29/21.

Accession Number: 20211029-5388.

Comment Date: 5 p.m. ET 11/19/21.

Take notice that the Commission received the following Complaints and Compliance filings in EL Dockets:

Docket Numbers: EL22-6-000.

Applicants: LOUISIANA PUBLIC SERVICE COMMISSION v. ENTERGY CORPORATION, ENTERGY SERVICES, LLC, ENTERGY LOUISIANA, LLC, ENTERGY ARKANSAS, LLC, ENTERGY MISSISSIPPI, LLC, ENTERGY NEW ORLEANS, LLC, ENTERGY TEXAS, INC.

Description: Complaint of the Louisiana Public Service Commission.

Filed Date: 10/29/21.

Accession Number: 20211029-5333.

Comment Date: 5 p.m. ET 11/18/21.

Docket Numbers: EL22-7-000.

Applicants: Virginia Municipal Electric Association v. Virginia Electric and Power Co. d/b/a Dominion Virginia Power.

Description: Complaint of Virginia Municipal Electric Association against Virginia Electric and Power Company, doing business as Dominion Virginia Power.

Filed Date: 10/29/21.

Accession Number: 20211029-5350.

Comment Date: 5 p.m. ET 11/18/21.

Take notice that the Commission received the following electric rate filings:

Docket Numbers: ER17-1428-005.

Applicants: Tilton Energy LLC.

Description: Informational Filing of Tilton Energy LLC pursuant to Schedule 2 of the MISO Tariff.

Filed Date: 10/22/21.

Accession Number: 20211022-5207.

Comment Date: 5 p.m. ET 11/12/21.

Docket Numbers: ER20-1006-003.

Applicants: DATC Path 15, LLC.

Description: Compliance filing: Amendment to 3000022 to be effective 6/13/2020.

Filed Date: 11/1/21.

Accession Number: 20211101-5249.

Comment Date: 5 p.m. ET 11/22/21.

Docket Numbers: ER21-2520-002.

Applicants: MATL LLP.

Description: Compliance filing: Order No. 676 Second Revised Compliance Filing to be effective 12/31/9998.

Filed Date: 11/1/21.

Accession Number: 20211101-5009.

Comment Date: 5 p.m. ET 11/22/21.

Docket Numbers: ER21-2581-001.

Applicants: Southwest Power Pool, Inc.

Description: Tariff Amendment: Deficiency Response in ER21-2581—City of Independence, Missouri Formula Rate to be effective 10/1/2021.

Filed Date: 11/1/21.

Accession Number: 20211101-5206.

Comment Date: 5 p.m. ET 11/22/21.

Docket Numbers: ER21-2652-000.

Applicants: Caddo Wind, LLC.

Description: Report Filing: Second Supplement to Application for Market-Based Rate Authority to be effective N/A.

Filed Date: 10/29/21.

Accession Number: 20211029-5280.

Comment Date: 5 p.m. ET 11/5/21.

Docket Numbers: ER21-2902-001.

Applicants: MATL LLP.

Description: Tariff Amendment: Amendment to Section 205 Filing Relating to Order 676 to be effective 12/31/9998.

Filed Date: 11/1/21.

Accession Number: 20211101-5010.

Comment Date: 5 p.m. ET 11/22/21.

Docket Numbers: ER22-291-000.

Applicants: PSEG Fossil LLC.

Description: Baseline eTariff Filing: Proposed Reactive Service Tariff—Essex Generation Station to be effective 12/1/2021.

Filed Date: 10/29/21.

Accession Number: 20211029-5336.

Comment Date: 5 p.m. ET 11/19/21.

Docket Numbers: ER22-292-000.

Applicants: Nexus Line, LLC.

Description: Initial rate filing: Nexus Line LLC TSA Rate Schedule 2 to be effective 12/31/9998.

Filed Date: 10/29/21.

Accession Number: 20211029-5341.

Comment Date: 5 p.m. ET 11/19/21.

Docket Numbers: ER22-293-000.

Applicants: Nexus Line, LLC.

Description: Initial rate filing: Nexus Line LLC Rate Schedule 3 Filing to be effective 12/31/9998.

Filed Date: 10/29/21.

Accession Number: 20211029-5345.

Comment Date: 5 p.m. ET 11/19/21.

Docket Numbers: ER22-294-000.

Applicants: PSEG Fossil LLC.

Description: § 205(d) Rate Filing: Reactive Service Tariff—Remainder of Generating Facilities to be effective 12/1/2021.

Filed Date: 10/29/21.

Accession Number: 20211101-5000.

Comment Date: 5 p.m. ET 11/19/21.

Docket Numbers: ER22-295-000.

Applicants: Midcontinent Independent System Operator, Inc.

Description: Midcontinent Independent System Operator, Inc. Request for Approval of Recovery of Charges in Accordance with Schedule 34 of the Open Access Transmission, Energy and Operating Reserve Markets Tariff.

Filed Date: 10/29/21.

Accession Number: 20211029-5377.

Comment Date: 5 p.m. ET 11/19/21.

Docket Numbers: ER22-296-000.

Applicants: Jackson Generation, LLC.

Description: Baseline eTariff Filing: Application for Market-Based Rate Authorization and Request for Waivers to be effective 11/2/2021.

Filed Date: 11/1/21.

Accession Number: 20211101-5101.

Comment Date: 5 p.m. ET 11/22/21.

Docket Numbers: ER22-297-000.

Applicants: Ameren Illinois Company.

Description: § 205(d) Rate Filing: Reimbursement Agreement—PPI Meppen Rate Schedule 157 to be effective 12/31/2021.

Filed Date: 11/1/21.

Accession Number: 20211101-5107.

Comment Date: 5 p.m. ET 11/22/21.

Docket Numbers: ER22-298-000.

Applicants: Midcontinent Independent System Operator, Inc.

Description: § 205(d) Rate Filing: 2021-11-01_Att X Fuel Change filing to be effective 1/1/2022.

Filed Date: 11/1/21.

Accession Number: 20211101-5125.

Comment Date: 5 p.m. ET 11/22/21.

Docket Numbers: ER22-299-000.

Applicants: Duke Energy Progress, LLC.

Description: § 205(d) Rate Filing: DEP-FPWC Revised Rate Schedule No. 184 to be effective 1/1/2021.

Filed Date: 11/1/21.

Accession Number: 20211101-5131.

Comment Date: 5 p.m. ET 11/22/21.

Docket Numbers: ER22-300-000.

Applicants: PJM Interconnection, L.L.C.

Description: § 205(d) Rate Filing: Original NSA, Service Agreement 6210, Queue No. NQ16 to be effective 10/1/2021.

Filed Date: 11/1/21.

Accession Number: 20211101-5133.

Comment Date: 5 p.m. ET 11/22/21.

Take notice that the Commission received the following electric securities filings:

Docket Numbers: ES22-17-000.

Applicants: PacifiCorp.

Description: Application Under Section 204 of the Federal Power Act for Authorization to Issue Securities of PacifiCorp.

Filed Date: 10/27/21.

Accession Number: 20211027-5181.

Comment Date: 5 p.m. ET 11/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2021.
Debbie-Anne A. Reese,
Deputy Secretary.

[FR Doc. 2021-24256 Filed 11-4-21; 8:45 am]

BILLING CODE 6717-01-P